DEPARTMENT OF COMMERCE

National Oceanic and Atmospheric Administration

50 CFR Part 679

[Docket No. 021212307-3037-02; I.D. 110602C]

Fisheries of the Exclusive Economic Zone Off Alaska; Bering Sea and Aleutian Islands; Final 2003 Harvest Specifications for Groundfish; Correction

AGENCY: National Marine Fisheries Service (NMFS), National Oceanic and Atmospheric Administration (NOAA), Commerce.

ACTION: Final rule; Correction.

SUMMARY: This document corrects a typographical error in the docket number of the final rule published in the Federal Register on March 3, 2003. This rule implements the final specifications for the groundfish fishery of the Bering Sea and Aleutian Islands management area.

DATES: Effective 1200 hrs, Alaska local time (A.l.t.), February 25, 2003, through 2400 hrs, A.l.t., December 31, 2003.

FOR FURTHER INFORMATION CONTACT: Regina L. Spallone, 301-713-2341.

SUPPLEMENTARY INFORMATION:

Need for Correction

An incorrect docket number (No.) was published under the Docket No. heading of the final rule, FR Doc. 03-4815, on March 3, 2003 (68 FR 9907). It is corrected as follows:

On page 9907, column 2, line 5 from the top of the document, the text, “Docket No. 021212307-3037-3037-02;'' is corrected to read “Docket No. 021212307-3037-02”.

Dated: March 21, 2003.
Rebecca Lent,
Deputy Assistant Administrator for Regulatory Programs, National Marine Fisheries Service.

[FR Doc. 03-7366 Filed 3-26-03; 8:45 am]

BILLING CODE 3510-22-S